DEPARTMENT OF TRANSPORTATION

Federal Aviation Administration

14 CFR Part 39

[Docket No. 2001-NE-50-AD; Amendment 39-14306; AD 2005-20-12]

RIN 2120-AA64

Airworthiness Directives; Dowty Aerospace Propellers Type R321/4-82-F/8, R324/4-82-F/9, R333/4-82-F/12, and R334/4-82-F/13 Propeller Assemblies

AGENCY: Federal Aviation Administration (FAA), DOT.

ACTION: Final rule; request for comments.

SUMMARY: The FAA is superseding an existing airworthiness directive (AD) for Type R321/4-82-F/8, R324/4-82-F/9, R333/4-82-F/12, and R334/4-82-F/13 propeller assemblies. That AD currently requires initial and repetitive ultrasonic inspections of propeller hubs, part number (P/N) 660709201. This AD requires the same initial and repetitive ultrasonic inspections, but reduces the initial and repetitive compliance times for Type R334/4-82-F/13 propeller assemblies when used on Construcciones Aeronauticas, S.A. (CASA) 212 airplanes. This AD results from a report of a hub separation on a CASA 212 airplane. We are issuing this AD to prevent propeller hub failure due to cracks in the hub, which could result in loss of control of the airplane.

DATES: Effective October 28, 2005. The Director of the Federal Register approved the incorporation by reference of certain publications listed in the regulations as of October 28, 2005. The Director of the Federal Register previously approved the incorporation by reference of certain publications as listed in the regulations as of July 27, 2004 (69 FR 34560, June 22, 2004).

We must receive any comments on this AD by December 12, 2005.

ADDRESSES: Use one of the following addresses to comment on this AD:

• By mail: Federal Aviation Administration (FAA), New England Region, Office of the Regional Counsel, Attention: Rules Docket No. 2001-NE-50-AD, 12 New England Executive Park, Burlington, MA 01803-5299.

• By fax: (781) 238-7055.

• By e-mail: 9-ane-adcomment@faa.gov.

You can get the service information referenced in this AD from Dowty Aerospace Propellers, Anson Business Park, Cheltenham Road East, Gloucester GL 29QN, UK; telephone 44 (0) 1452 716000; fax 44 (0) 1452 716001.

You may examine the AD docket at the FAA, New England Region, Office of the Regional Counsel, 12 New England Executive Park, Burlington, MA.

FOR FURTHER INFORMATION CONTACT: Terry Fahr, Aerospace Engineer, Boston Aircraft Certification Office, FAA, Engine and Propeller Directorate, 12 New England Executive Park, Burlington, MA 01803-5299; telephone (781) 238-7116; fax (781) 238-7155.

SUPPLEMENTARY INFORMATION: June 10, 2004, the FAA issued AD 2004-13-01, Amendment 39-13681 (69 FR 34560, June 22, 2004). That AD requires initial and repetitive ultrasonic inspections of propeller hubs, P/N 660709201, installed on airplanes, and for hubs and propellers in storage, initial ultrasonic inspection of propeller hubs before placing in service. That AD was the result of the manufacturer's reevaluation of potential hub failure on Type R321/4-82-F/8, R324/4-82-F/9, R333/4-82-F/12, and R334/4-82-F/13 propeller assemblies. That condition, if not corrected, could result in propeller hub failure due to cracks in the hub, which could result in loss of control of the airplane.

Actions Since AD 2004-13-01 Was Issued

Since we issued AD 2004-13-01, the Civil Aviation Authority (CAA), which is the airworthiness authority for the United Kingdom (U.K.), recently notified the FAA that an unsafe condition might exist on Dowty Aerospace Propellers Type R334/4-82-F/13 propeller assemblies installed on CASA 212 airplanes. The CAA advises that they have received a report of a hub separation of a Type R334/4-82-F/13 propeller assembly installed on a CASA 212 airplane. This AD requires the same initial and repetitive inspections as specified in AD 2004-13-01, but reduces the compliance intervals for the initial and repetitive inspections on Type R334/4-82-F/13 propeller assemblies installed on CASA 212 airplanes. We intend the actions specified in this AD to prevent propeller hub failure due to cracks in the hub, which could result in loss of control of the airplane.

Relevant Service Information

We have reviewed and approved the technical contents of Dowty Aerospace Propellers Alert Mandatory Service Bulletin (MSB) No. 61-1119, Revision 4, dated September 14, 2005, that specifies initial and repetitive ultrasonic inspections of the rear wall of the rear half of the propeller hub for cracks on Type R334/4-82-F/13 propeller assemblies. The CAA classified this service bulletin as mandatory and issued CAA UK AD No. G-2005-0027, dated September 8, 2005, to assure the airworthiness of these Dowty Aerospace Propellers in the U.K.

Differences Between This AD and the Manufacturer's Service Information

Although Appendix A of Alert MSB No. 61-1119, Revision 4, dated September 14, 2005, requires reporting the inspection data to Dowty Aerospace Propellers, this AD requires that you report the data to the Boston Aircraft Certification Office of the FAA. Also, the Accomplishment Instructions 3.A.(1) of Alert MSB No. 61-1119, Revision 4, dated September 14, 2005, allows you to use Appendix A or Appendix D of that MSB, this AD requires that you use Appendix A of that MSB.

Bilateral Airworthiness Agreement

This propeller model is manufactured in the U.K. and is type certificated for operation in the United States under the provisions of section 21.29 of the Federal Aviation Regulations (14 CFR 21.29) and the applicable bilateral airworthiness agreement. Under this bilateral airworthiness agreement, the CAA has kept the FAA informed of the situation described above. We have examined the findings of the CAA, reviewed all available information, and determined that AD action is necessary for products of this type design that are certificated for operation in the United States.

FAA's Determination and Requirements of This AD

The unsafe condition described previously is likely to exist or develop on other Dowty Aerospace Propellers Type R321/4-82-F/8, R324/4-82-F/9, R333/4-82-F/12, and R334/4-82-F/13 propeller assemblies of the same type design. We are issuing this AD to prevent propeller hub failure due to cracks in the hub, which could result in loss of control of the airplane. This AD requires:

• Within 10 flight hours (FH) time-in-service (TIS) or 20 days after the effective date of this AD, whichever occurs earlier, performing an initial ultrasonic inspection of the rear halves of propeller hubs P/N 660709201, that are installed in Type R334/4-82-F/13 propeller assemblies, and;

• Within 50 FH TIS or 60 days after the effective date of this AD, whichever occurs earlier, performing an initial ultrasonic inspection of the rear halves of propeller hubs P/N 660709201, that are installed in Type R321/4-82-F/8, R324/4-82-F/9, and R333/4-82-F/12 propeller assemblies, and;

• Within 300 FH time-since-last-inspection (TSLI) performing a repetitive ultrasonic inspection of the rear halves of propeller hubs P/N 660709201, that are installed in Type R334/4-82-F/13 propeller assemblies, and;

• Within 1,000 FH TSLI performing a repetitive ultrasonic inspection of the rear halves of propeller hubs P/N 660709201, that are installed in Type R321/4-82-F/8, R324/4-82-F/9, and R333/4-82-F/12 propeller assemblies, and;

• If not already done, performing an ultrasonic inspection of the rear halves of propeller hubs P/N 660709201, that are installed in Type R321/4-82-F/8, R324/4-82-F/9, R333/4-82-F/12, and R334/4-82-F/13 propeller assemblies that are in storage before installing the propeller assembly onto an airplane.

You must use the service information described previously to perform the actions required by this AD.

FAA's Determination of the Effective Date

Since an unsafe condition exists that requires the immediate adoption of this AD, we have found that notice and opportunity for public comment before issuing this AD are impracticable and that good cause exists for making this amendment effective in less than 30 days.

Comments Invited

This AD is a final rule that involves requirements affecting flight safety. We did not precede it by notice and an opportunity for public comment; however, we invite you to send us any written relevant data, views, or arguments regarding this AD. Send your comments to an address listed under ADDRESSES. Include “AD Docket No. 2001-NE-50-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

Examining the AD Docket

You may examine the AD Docket (including any comments and service information), by appointment, between 8 a.m. and 4:30 p.m., Monday through Friday, except Federal holidays. See ADDRESSES for the location.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2001-NE-50-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-13681 (69 FR 34560, June 22, 2004), and by adding a new airworthiness directive, Amendment 39-14306, to read as follows:

2005-20-12 Dowty Aerospace Propellers: Amendment 39-14306. Docket No. 2001-NE-50-AD.

Effective Date

(a) This airworthiness directive (AD) becomes effective October 28, 2005.

Affected ADs

(b) This AD supersedes AD 2004-13-01, Amendment 39-13681.

Applicability

(c) This AD applies to Dowty Aerospace Propellers Type R321/4-82-F/8, R324/4-82-F/9, R333/4-82-F/12, and R334/4-82-F/13 propeller assemblies with propeller hubs part number (P/N) 660709201. These propeller assemblies are installed on, but not limited to, Construcciones Aeronauticas, S.A. (CASA) 212, British Aerospace Regional Aircraft Jetstream Models 3101 and 3201, Fairchild Aircraft, Inc., Merlin IIIC, and Merlin IVC/Metro III airplanes.

Unsafe Condition

(d) This AD results from a report of a hub separation on a CASA 212 airplane. We are issuing this AD to prevent propeller hub failure due to cracks in the hub, which could result in loss of control of the airplane.

Compliance

(e) You are responsible for having the actions required by this AD performed within the compliance times specified unless the actions have already been done.

Initial Ultrasonic Inspections

(f) Perform an initial ultrasonic inspection of the rear wall of the rear half of the propeller hub for cracks within the compliance time specified in the following Table 1. Use Appendix A of the applicable Dowty Mandatory Service Bulletin (MSB) listed in Table 1 of this AD.

Table 1.—Applicable MSB for Propeller Type
Propeller assembly type | Initial inspection within the earlier of . . . | Repeat inspection within . . . | Applicable MSB
(1) R334/4-82-F/13 | 10 flight hours (FH) time-in-service (TIS) or 20 days after the effective date of this AD | 300 FH time-since-last-inspection (TSLI) | Alert MSB No. 61-1119, Revision 4, dated September 14, 2005.
(2) R321/4-82-F/8 | 50 FH TIS or 60 days after the effective date of this AD | 1,000 FH TSLI | MSB No. 61-1125, Revision 1, dated October 9, 2002.
(3) R324/4-82-F/9 | 50 FH TIS or 60 days after the effective date of this AD | 1,000 FH TSLI | MSB No. 61-1126, Revision 1, dated October 9, 2002.
(4) R333/4-82-F/12 | 50 FH TIS or 60 days after the effective date of this AD | 1,000 FH TSLI | MSB No. 61-1124, Revision 1, dated October 8, 2002.

(g) For hubs and propellers in storage, perform an initial ultrasonic inspection of the rear wall of the rear half of the propeller hub for cracks, before placing in service. Use Appendix A of the applicable Dowty MSB listed in Table 1 of this AD.

(h) Propeller hubs, P/N 660709201, already inspected using a Dowty MSB listed in Table 1 or earlier issue of those MSBs, comply with paragraph (f) of this AD.

Repetitive Ultrasonic Inspections

(i) Thereafter, perform a repetitive ultrasonic inspection of the rear wall of the rear half of the propeller hub for cracks within the compliance time specified in Table 1 of this AD. Use Appendix A of the applicable Dowty Mandatory Service Bulletin (MSB) listed in Table 1 of this AD.

Inspection Reporting Requirements

(j) Within 10 days after each inspection, record the inspection data on a copy of Appendix B of the applicable MSB listed in Table 1 of this AD. Report the findings to the Manager, Boston Aircraft Certification Office, FAA, Engine and Propeller Directorate, 12 New England Executive Park, Burlington, MA 01803-5299. The Office of Management and Budget (OMB) approved the reporting requirements and assigned OMB control number 2120-0056.

Alternative Methods of Compliance

(k) The Manager, Boston Certification Office, has the authority to approve alternative methods of compliance for this AD if requested using the procedures found in 14 CFR 39.19.

Special Flight Permits

(l) Special flight permits may be issued in accordance with §§ 21.197 and 21.199 of the Federal Aviation Regulations (14 CFR 21.197 and 21.199) to operate the airplane to a location where the requirements of this AD can be done.

Documents That Have Been Incorporated by Reference

(m) You must use the service information specified in Table 2 to perform the inspections required by this AD. The Director of the Federal Register approved the incorporation by reference of Dowty Alert Mandatory Service Bulletin (MSB) No. 61-1119, Revision 4, Dated September 14, 2005, listed in Table 2 of this AD, in accordance with 5 U.S.C. 552(a) and 1 CFR part 51. The Director of the Federal Register previously approved the incorporation by reference of MSB No. 61-1124, Revision 1, Dated October 8, 2002, and MSB No. 61-1125, Revision 1, Dated October 9, 2002, and MSB 61-1126, Revision 1, Dated October 9, 2002 (69 FR 34560, June 22, 2004). Contact Dowty Propellers, Anson Business Park, Cheltenham Road East, Gloucester GL 29QN, UK; telephone 44 (0) 1452 716000; fax 44 (0) 1452 716001 for a copy of this service information. You may review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Table 2.—Incorporation by Reference
Service Bulletin No. | Page | Revision | Date
Alert MSB No. 61-1119 | All | 4 | September 14, 2005.
Appendix A | 1 | 1 | November 27, 2001.
| 2 | Original | November 1, 2001.
| 3-6 | 1 | November 27, 2001.
Appendix B | 1 | Original | November 1, 2001.
Appendix C | All | Original | November 27, 2001.
Appendix D | All | Original | December 6, 2001.
Total pages | 30 |  |
MSB No. 61-1124 | 1 | 1 | October 8, 2002.
| 2-3 | Original | May 7, 2002.
Appendix A | All | Original | May 7, 2002.
Appendix B | All | Original | May 7, 2002.
Appendix C | All | Original | May 7, 2002.
Appendix D | All | Original | May 7, 2002.
Total pages | 30 |  |
MSB No. 61-1125 | 1 | 1 | October 9, 2002.
| 2-3 | Original | May 7, 2002.
Appendix A | All | Original | May 7, 2002.
Appendix B | All | Original | May 7, 2002.
Appendix C | All | Original | May 7, 2002.
Appendix D | All | Original | May 7, 2002.
Total pages | 30 |  |
MSB No. 61-1126 | 1 | 1 | October 9, 2002.
| 2-3 | Original | May 7, 2002.
Appendix A | All | Original | May 7, 2002.
Appendix B | All | Original | May 7, 2002.
Appendix C | All | Original | May 7, 2002.
Appendix D | All | Original | May 7, 2002.
Total pages | 30 |  |

Related Information

(n) United Kingdom (U.K.) Civil Aviation Authority (CAA) airworthiness directives No. G-2006-0027, dated September 8, 2005; CAA UK AD No. 009-05-2002, dated April 15, 2003; CAA UK AD No. 010-05-2002, dated April 15, 2003; and CAA UK AD No. 011-05-2002, dated April 15, 2003, also addresses the subject of this AD.

Issued in Burlington, Massachusetts, on September 26, 2005.
Francis A. Favara,
Acting Manager, Engine and Propeller Directorate, Aircraft Certification Service.

[FR Doc. 05-20170 Filed 10-12-05; 8:45 am]

BILLING CODE 4910-13-P